DEPARTMENT OF HEALTH AND HUMAN SERVICES

Centers for Disease Control and Prevention

[Program Announcement 02138]

Technology Transfer of a Community-level Intervention for Young Men at Risk for HIV Infection; Notice of Availability of Funds

A. Purpose

The Centers for Disease Control and Prevention (CDC) announces the availability of fiscal year (FY) 2002 funds for a cooperative agreement program for Technology Transfer of a Community-level Intervention for Young Men at Risk for HIV Infection. This program addresses the “Healthy People 2010” focus dealing with HIV and AIDS prevention.

The purpose of the program is to implement an HIV prevention, community level intervention in locations that served as comparison communities in research funded through the previous Program Announcement 96001.

Measurable outcomes of the program will be in alignment with one or more of the following performance goals for the National Center for Human Immunodeficiency Virus, Sexually Transmitted Disease and Tuberculosis (HIV, STD, & TB Prevention). Through the implementation of HIV prevention programs, reduce the number of cases of HIV infection and AIDS: 1. Acquired heterosexually, 2. related to injecting drug use, 3. associated with male-to-male homosexual contact, and 4. acquired perinatally.

B. Authority and Catalog of Federal Domestic Assistance Number

This program is authorized under sections 301(a) and 317 (k)(2) of the Public Health Service Act, 42 U.S.C. section 241. The Catalog of Federal Domestic Assistance number is 93.943.

C. Eligible Applicants

Eligibility is limited to organizations (identified in this announcement as lead organizations) that were collaborative partners, or served as part of the local advisory group, in the comparison communities for the HIV prevention research study funded under Program Announcement 96001. Listed are eligible organizations located in the following communities: Atlanta, Georgia—AID Atlanta, AIDS Education Services for Minorities, Brothers Back to Back, Fulton County Health Department, Second Sunday, State of Georgia, Department of Health, STD/HIV Division (in Decatur, Georgia), and Unity Fellowship Church; Detroit, Michigan—Midwest AIDS Prevention Project (in Ferndale, Michigan); Minneapolis, Minnesota—The Bridge for Runaway Youth, The City, Inc., District 202, Face to Face Health and Counseling Services, Inc. (in Saint Paul, Minnesota), HIM Program—Red Door Clinic, Lutheran Social Services, Minnesota AIDS Project, Out4Good, Out for Equity (in Saint Paul, Minnesota), Pillsbury House, Project Solo, and Youth Link (formerly Minneapolis Youth Diversion); Queens (Jackson Heights), New York City, New York—Hispanic AIDS Forum; San Diego, California—Asian Pacific Islander Community AIDS Project and Gay and Lesbian Center; San Gabriel Valley, California—AltaMed, Bienestar, Community Health Foundation, The Wall-Los Memorias, and Whittier-Rio Hondo.

Universities and research organizations are not eligible for funding as a lead organization but can be part of the collaborative team.

In addition, eligible applicants must meet the following criteria:

(1) Where applicable, must target the following racial/ethnic populations: Asian and Pacific Islanders(San Diego); African-Americans (Atlanta); Latinos/Hispanics (Queens [Jackson Heights]; San Gabriel Valley).

(2) Must have an agreement to collaborate with the investigator on the proposed program as evidenced by a letter of support.

Note: Title 2 of the United States Code section 1611 states that an organization described in section 501(c)(4) of the Internal Revenue Code that engages in lobbying activities is not eligible to receive Federal funds constituting an award, grant or loan.

D. Availability of Funds

Approximately $1.2 million is available in FY 2002 to fund approximately six awards. It is expected that the average award will be $200,000, ranging from $150,000 to $250,000. It is expected that the awards will begin on or about September 16, 2002 and will be made for a 12-month budget period.

Although applicants are encouraged to contract with other organizations under these cooperative agreements, applicants must perform a substantial portion of the activities (including program management and operations) for which funds are requested.

Funding Preferences

Each applicant may submit only one application and the intent is to fund one award in each of the specified communities, therefore applicants from the same geographic area are encouraged to collaborate.

Matching funds is not a requirement for this program announcement.

E. Program Requirements

In conducting activities to achieve the purpose of this program, the recipient will be responsible for the activities under 1. Recipient Activities, and CDC will be responsible for the activities listed under 2. CDC Activities.

1. Recipient Activities

a. Establish a collaborative team of prevention service providers and other community partners to implement a multi-component HIV prevention intervention for young men (aged 15-25) who have sex with men (YMSM). The collaborative team should consist of the organizations that will jointly implement intervention activities for YMSM. The collaborative team will include a lead organization, a researcher that was previously funded through Program Announcement 96001, and at least one other community organization. The lead organization and other collaborating organizations may be state or local health departments, community-based organizations, AIDS service organizations, or other social service organizations, and organizations affiliated with the state/local Community Planning Group (CPG).

b. Participate in a planning process that will involve a review of interventions that have been found to be effective for YMSM, selection of intervention activities that will be implemented jointly by the organizations in the collaborative team, and tailoring of the intervention protocols to the context of the community. The collaborative teams should consider interventions identified in the state/local Comprehensive HIV Prevention Plans but should also consider interventions that have been identified by CDC as effective for this population that may not be mentioned in a state/local plan. All activities supported under this announcement must be consistent with the goals of the state/local Comprehensive HIV Prevention Plan.

c. Implement the HIV prevention intervention for YMSM. This may involve any or all of the following activities: peer outreach, social marketing, social events with an HIV prevention theme, and small group workshops.

d. Collaborate with academic or other appropriate institutions to develop and implement a plan for evaluating program activities.

e. Establish mechanisms with other public and/or private groups to maintain support for the program at the conclusion of federal support.

f. Collaborate with appropriate partners to inform, and educate state and local CPG's, other HIV prevention providers and researchers regarding the experiences and lessons learned in technology transfer of the selected intervention activities for YMSM in these communities.

g. Collaborate with appropriate partners to inform and educate others regarding the experiences and lessons learned from the project.

2. CDC Activities

a. Provide up to date information and recommendations on effective intervention strategies for YMSM.

b. Provide consultation and technical assistance in the planning and evaluation of program activities.

c. Monitor recipient performance of program activities and compliance with other requirements.

d. Identify mechanisms for disseminating lessons learned from the project.

F. Content

Applications

Use the information in the Program Requirements, Other Requirements, and Evaluation Criteria sections to develop the application content. Your application will be evaluated on the criteria listed, so it is important to follow them in laying out your program plan. The narrative should be no more than 25 double-spaced pages, printed on one side, with one-inch margins, and twelve point fonts. The 25 pages does not include the budget or appendices.

G. Submission and Deadline

Application

Submit the original and two copies of PHS 5161-1 [(OMB Number 0920-0428) (adhere to the instructions on the Errata Instruction Sheet for PHS 398)]. Forms are at the following Internet address: http://www.cdc.gov/od/pgo/forminfo.htm.

Forms may also be obtained by contacting the Grants Management listed in the “Where to Obtain Additional Information” section of this announcement. Forms may not be submitted electronically.

On or before August 28, 2002, submit the application to the: Technical Information Management Section, 2920 Brandywine Road, Suite 3000, Atlanta, Georgia 30341.

Deadline: Applications shall be considered as meeting the deadline if they are: Received on or before the deadline date.

Late Applications: Applications which do not meet the criteria above will be returned to the applicant.

H. Evaluation Criteria

Application

Applicants are required to provide Measures of Effectiveness that will demonstrate the accomplishment of the various identified objectives of the grant or cooperative agreement. Measures of Effectiveness must relate to the performance goal (or goals)as stated in section “A. Purpose” of this announcement. Measures must be objective and quantitative and must measure the intended outcome. These Measures of Effectiveness shall be submitted with the application and shall be an element of evaluation.

Each application will be evaluated individually against the following criteria by an independent review group appointed by CDC.

(1) Intervention implementation plan (30 points)

a. The applicant should describe the planning process for reviewing HIV prevention interventions that have shown evidence of effectiveness, and selecting intervention activities for their community. The planning process should include strategies for tailoring the planned intervention to the target population and the community context.

b. The applicant should provide a plan for implementing, with members of the collaborative team and community members, the selected HIV prevention intervention for young men who have sex with men. This intervention may include any or all of the following activities: Peer outreach, social marketing, social events with an HIV prevention theme, small group workshops, and capacity-building. Applicants are encouraged to improve existing services with proven effective prevention programs in order to enhance the sustainability of the effort.

c. The proposed implementation plan should include overall goals and specific objectives that are time-phased, measurable, realistic, and related to the proposed goals.

d. A time line of planned program activities should be included in the appendix for this section. The time line should allow for a planning process of at least three but no more than six months prior to intervention implementation.

e. The applicant should provide a plan for sustaining the intervention beyond the federal funding period, including potential alternate sources of funding.

(2) Organizational capacity of lead agency (25 points)

a. The applicant should describe experience conducting HIV prevention activities directly with the target population, or as part of a coalition or collaborative team working with the target population, for at least two of the previous four years in the selected community.

b. The applicant should describe the staffing plan for the proposed program. At a minimum, staffing should include a full-time program coordinator, a full-time peer outreach coordinator, and a part-time program assistant. Except for the program coordinator, some of these positions may be housed within other coalition members' organizations.

c. The applicant should provide descriptions of any other collaborative ventures within the past four years, and document the accomplishments of those collaborations.

(3) Collaborative Team (25 points)

a. The applicant must describe the members of the collaborative team by type of organization and relative organizational experience. (At a minimum, the collaborative team should include at least the lead agency, the original researcher funded under Cooperative Agreement 96001, and at least one other community organization). The applicant should be able to show strong representation by the targeted YMSM population in the collaborative team.

b. The applicant should provide evidence of an established relationship with one of the investigators funded under Cooperative Agreement 96001 and/or an agreement to collaborate with the researcher on this program as evidenced by a letter of support. The applicant should describe the specific role the researcher will perform in the implementation and evaluation of the intervention.

c. Signed letters of support or other official documentation (e.g., memorandum of agreement) of the relevant collaboration should be appended to the document but not included in this section of the narrative.

(4) Evaluation Plan (10 points)

a. Applicant should provide a description of the evaluation and monitoring process that the applicant will use to track and measure program progress.

b. An evaluation plan should be provided that includes time-phased, specific, and measurable objectives that account for the major activities of the intervention implementation plan, and any other relative process measures.

(5) Dissemination of Lessons Learned (10 points)

The applicant should describe how successful approaches and lessons learned will be shared with other organizations.

(6) Budget (not scored)

The applicant should provide a line-item budget with a detailed narrative justification that is consistent with the purpose and objectives of this cooperative agreement.

I. Other Requirements

Technical Reporting Requirements

Provide CDC with original plus two copies of

1. Quarterly progress reports;

2. Financial status report, no more than 90 days after the end of the budget period; and

3. Final financial and performance reports, no more than 90 days after the end of the project period.

4. Applicants are required to provide Measures of Effectiveness that will demonstrate the accomplishment of the various identified objectives of the grant or cooperative agreement.

Send all reports to the Grants Management Specialist identified in the “Where to Obtain Additional Information” section of this announcement.

The following additional requirements are applicable to this program. For a complete description of each, see Attachment I of the announcement.

AR-1 Human Subjects Requirements

AR-2 Requirements for Inclusion of Women and Racial and Ethnic Minorities in Research

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Non-Profit Status

AR-22 Research Integrity

J. Where To Obtain Additional Information

This and other CDC announcements can be found on the CDC home page Internet address— http://www.cdc.gov. Click on “Funding” then “Grants and Cooperative Agreements.”

To obtain business management technical assistance, contact: Lynn Mercer, Grants Management Officer, Grants Management Branch, Procurement and Grants Office, Centers for Disease Control and Prevention, 2920 Brandywine Road, Room 3000, Atlanta, GA 30341-4146, Telephone number: (770) 488-2810, Email address: lzm2@cdc.gov.

For program technical assistance, contact: Craig Studer, Behavioral Intervention Research Branch, National Center for HIV, STD, and TB Prevention, Centers for Disease Control and Prevention, 1600 Clifton Road, NE, MS E-37, Atlanta, GA 30333, Telephone number: (404) 639-1900, Email address: ccs1@cdc.gov.

Dated: July 23, 2002.
Edward J. Schultz,
Deputy Director, Procurement and Grants Office, Centers for Disease Control Prevention.

[FR Doc. 02-19061 Filed 7-26-02; 8:45 am]

BILLING CODE 4163-18-P